INTERNATIONAL BOUNDARY AND WATER COMMISSION; UNITED STATES AND MEXICO

United States Section; Notice of Availability for the Record of Decision on the Final Supplemental Environmental Impact Statement, Clean Water Act Compliance at the South Bay International Wastewater Treatment Plant, Located in San Diego County, CA

AGENCY: United States Section, International Boundary and Water Commission (USIBWC), United States and Mexico.

ACTION: Notice of Availability for the Record of Decision (ROD).

SUMMARY: Pursuant to Section 102(2)(c) of the National Environmental Policy Act of 1969; the Council on Environmental Quality Final Regulations (40 CFR Parts 1500 through 1508); and the USIBWC's Operational Procedures for Implementing Section 102 of NEPA, published in the Federal Register September 2, 1981, (46 FR 44083); the USIBWC hereby gives notice that the Record of Decision (ROD) for the Supplemental Environmental Impact Statement, Clean Water Act Compliance at the South Bay International Wastewater Treatment Plant, located in San Diego County, California is available. The ROD was signed and made available via the USIBWC website on September 30, 2005. A Notice of Availability of the Final Supplemental Environmental Impact Statement (SEIS) dated July 14, 2005, provided a thirty (30)-day comment period. The Notice was published in the Federal Register on July 22, 2005 (70 FR 42379).

FOR FURTHER INFORMATION CONTACT: Gilbert Anaya, Environmental Management Division; United States Section, International Boundary and Water Commission; 4171 N. Mesa, C-100; El Paso, Texas 79902. Telephone: (915) 832-4702, email: gilbertanaya@ibwc.state.gov.

SUPPLEMENTARY INFORMATION:

Proposed Action

The United States Section, International Boundary and Water Commission (USIBWC) has prepared the Record of Decision on the Final Supplemental Environmental Impact Statement for Clean Water Act Compliance at the South Bay International Wastewater Treatment Plant (Final SEIS). The South Bay International Wastewater Treatment Plant (SBIWTP) is an existing international wastewater treatment plant located in San Diego County at the United States-Mexico border. The SBIWTP and its associated facilities capture and treat to the advanced primary level an average of 25 million gallons per day (mgd) of raw sewage originating from the Tijuana region of Mexico and discharge the treated effluent approximately 3.5 miles offshore into the Pacific Ocean through the South Bay Ocean Outfall (SBOO). The SBIWTP and its system of canyon collectors prevent millions of gallons of dry weather flows of raw sewage from flowing daily into the United States from Mexico and polluting the Tijuana River, the Tijuana River Valley and Estuary, and south San Diego beaches.

The Final SEIS analyzed existing and new alternatives that would enable the USIBWC to bring the SBIWTP into compliance with the Clean Water Act (CWA) and with the SBIWTP's National Pollutant Discharge Elimination System (NPDES) permit either by providing secondary treatment at the SBIWTP; or by having another entity, either private or public, provide secondary treatment of the SBIWTP's effluent in Mexico; or by achieving CWA compliance by some other means. The Final SEIS also evaluated new information on the current discharges of advanced primary effluent from the SBIWTP through the SBOO, as well as potential interim actions that would allow continued operations of the SBIWTP until the SBIWTP achieves CWA compliance. The Record of Decision was prepared in compliance with 40 CFR 1505.2 to document the USIBWC's decision on the project. The decision is based on the Final SEIS development process (40 CFR part 1502) and public involvement (40 CFR part 1500).

On July 22, 2005, USIBWC made the Final SEIS available for public review and comment. A Notice of Availability of the Final SEIS was published in the Federal Register by the USIBWC on July 22, 2005 (70 FR 42379), and by the United States Environmental Protection Agency (EPA) on July 29, 2005 (70 FR 43867). USIBWC invited written comments on the Final SEIS to be submitted on or before August 24, 2005. USIBWC received one comment letter on the Final SEIS. The comments on the Draft and Final SEIS along with USIBWC responses are discussed in Sections VI and VII of the Record of Decision, respectively.

Availability

Single hard copies of the Record of Decision may be obtained by request at the above address. Electronic copies may also be obtained from the USIBWC Home Page at http://www.ibwc.state.gov.

Dated: November 7, 2005.
Susan Daniel,
General Counsel.

[FR Doc. 05-22868 Filed 11-17-05; 8:45 am]

BILLING CODE 7010-01-P